DEPARTMENT OF HEALTH AND HUMAN SERVICES

National Institutes of Health

National Institute of Child Health and Human Development; Amended Notice of Meeting

Notice is hereby given of a change in the meeting of the Developmental Biology Subcommittee, June 7, 2007, 8:30 a.m. to June 7, 2007, 5 p.m., Hotel Washington, Pennsylvania Avenue at 15th Street, NW., Washington, DC 20004, which was published in the Federal Register on May 9, 2007, 72 FR 26409.

The meeting will now be held at the Hyatt Regency in Crystal City, 2799 Jefferson Davis Highway, Arlington, Virginia, from 8:30 a.m. to 5 p.m. The meeting is closed to the public.

Dated: May 14, 2007.
Jennifer Spaeth,
Director, Office of Federal Advisory Committee Policy.

[FR Doc. 07-2494 Filed 5-18-07; 8:45 am]

BILLING CODE 4140-01-M